DEPARTMENT OF ENERGY

Federal Energy Regulatory Commission

[Docket No. RP04-39-000]

Columbia Gulf Transmission Company; Notice of Proposed Changes in FERC Gas Tariff

November 5, 2003.

Take notice that on October 31, 2003, Columbia Gulf Transmission Company (Columbia Gulf) tendered for filing as part of its FERC Gas Tariff, Second Revised Volume No. 1, the following tariff sheets, with an effective date of November 30, 2003:

First Revised Sixth Revised Sheet No. 39

First Revised Sixth Revised Sheet No. 46

Sixth Revised Sheet No. 318

Columbia Gulf states it is making the filing to allow it to mutually agree with shippers, on a not unduly discriminatory basis, to combine multiple service agreements under the same rate schedule with varying terms of service for different contract demand quantities into a single service agreement for purposes of increased administrative ease in nominating daily service requirements on the pipeline. Columbia Gulf's proposed revisions are entirely voluntary on the shipper's part and will not expand or restrict any other shipper's existing firm service rights or obligations under any other provisions of Columbia Gulf's Tariff.

Columbia Gulf states that copies of this filing have been mailed to all firm customers, interruptible customers and affected state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the e-Filing link.

Magalie R. Salas,
Secretary.

[FR Doc. E3-00192 Filed 11-12-03; 8:45 am]

BILLING CODE 6717-01-P